FEDERAL COMMUNICATIONS COMMISSION

47 CFR Part 73

[DA 02-2257; MB Docket No. 02-110; RM-10406]

Radio Broadcasting Services; Rose Hill and La Grange, NC

AGENCY: Federal Communications Commission.

ACTION: Final rule.

SUMMARY: This document substitutes Channel 284C3 for Channel 284A at Rose Hill, North Carolina, reallots Channel 284C3 to La Grange, North Carolina, and modifies the license for Station WZUP to specify operation at La Grange in response to a petition filed by Conner Media, Inc. See 67 FR 38244, June 3, 2002. The coordinates for Channel 284C3 at La Grange are 35-16-00 and 77-58-00. With this action, this proceeding is terminated.

DATES: Effective November 4, 2002.

FOR FURTHER INFORMATION CONTACT: Kathleen Scheuerle, Media Bureau, (202) 418-2180.

SUPPLEMENTARY INFORMATION: This is a summary of the Commission's Report and Order, MB Docket No. 02-110, adopted September 4, 2002, and released September 20, 2002. The full text of this Commission decision is available for inspection and copying during regular business hours in the FCC's Reference Information Center, Portals II, 445 12th Street, SW., Room CY-A257, Washington, DC, 20554. The complete text of this decision may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under North Carolina, is amended by adding La Grange, Channel 284C3 and by removing Rose Hill, Channel 284A.

Federal Communications Commission.
John A. Karousos,
Assistant Chief, Audio Division, Media Bureau.

[FR Doc. 02-26230 Filed 10-18-02; 8:45 am]

BILLING CODE 6712-01-P